DEPARTMENT OF THE TREASURY

Internal Revenue Service

26 CFR Part 1

[TD 9741]

RIN 1545-BB23; 1545-BC07; 1545-BH48

General Allocation and Accounting Regulations Under Section 141; Remedial Actions for Tax-Exempt Bonds; Correction

AGENCY: Internal Revenue Service (IRS), Treasury.

ACTION: Final regulations; correcting amendment.

SUMMARY: This document contains corrections to final regulations (TD 9741) that were published in the Federal Register on Tuesday, October 27, 2015 (80 FR 65637). The final regulations provide guidance on allocation and accounting, and certain remedial actions, for purposes of the private activity bond restrictions under section 141of the Internal Revenue Code that apply to tax-exempt bonds issued by State and local governments.

DATES: This correction is effective November 30, 2015 and applicable October 27, 2015.

FOR FURTHER INFORMATION CONTACT: Johanna Som de Cerff or Zoran Stojanovic at (202) 317-6980 (not a toll-free number).

SUPPLEMENTARY INFORMATION:

Background

The final regulations (TD 9741) that are the subject of this correction are under section 141 of the Internal Revenue Code.

Need for Correction

As published, the final regulations (TD 9741) contains an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

Par. 2. Section 1.141-15 is amended by revising paragraph (l)(1) to read as follows:

§ 1.41-15 Effective/applicability dates.

* * * * *

(l) * * * (1) In general. Except as otherwise provided in this section, §§ 1.141-1(e), 1.141-3(g)(2)(v), 1.141-6, 1.141-13(d), and 1.145-2(b)(4), (b)(5), and (c)(2) apply to bonds that are sold on or after January 25, 2016, and to which the 1997 regulations (as defined in paragraph (b)(1) of this section) apply.

* * * * *

Martin V. Franks,
Chief, Publications and Regulations Branch, Legal Processing Division, Associate Chief Counsel (Procedure and Administration).

[FR Doc. 2015-30322 Filed 11-27-15; 8:45 am]

BILLING CODE 4830-01-P